DEPARTMENT OF STATE

[Public Notice 11361]

Designation of Individuals and Entities Pursuant to Section 1245 of the Iran Freedom and Counter-Proliferation Act (IFCA)

AGENCY: Department of State.

ACTION: Notice of designations.

SUMMARY: The Secretary of State, pursuant to authority delegated by Presidential Memorandum of June 3, 2013, (“IFCA Delegation Memorandum”), has determined that Pamchel Trading Beijing Co. Ltd., Global Industrial and Engineering Supply Ltd., Kaifeng Pingmei New Carbon Materials Technology Co., Ltd, Hafez Darya Arya Shipping Company, Jiangyin Mascot Special Steel Co., Ltd, Iran Transfo Company, Zangan Distribution Transformer Company, Accenture Building Materials, Safiran Payam Darya Shipping Company (SAPID), Islamic Republic of Iran Shipping Lines (IRISL), Mobarakeh Steel Company have engaged in sanctionable activity described in the Iran Freedom and Counter-Proliferation Act of 2012 (IFCA), and that certain sanctions are imposed as a result. The Secretary of State also determined that, for the purposes of Sections 6(a)(10) and (11), of the Iran Sanctions Act of 1996 (ISA), Majid Sajdeh is a principal executive officer or person performing similar functions and with similar authorities of Hafez Darya Arya Shipping Company, that Mohammad Reza Modarres Khiabani is a principal executive officer, or person performing similar functions and with similar authorities, of IRISL, and that Hamidreza Azimian is a principal executive officer, or person performing similar functions and with similar authorities, of Mobarakeh Steel Company, and that certain sanctions are imposed as a result.

DATES: The Secretary of State sanctioned Pamchel Trading Beijing Co. Ltd. pursuant to Section 1245(a) of IFCA on January 9, 2020; Global Industrial and Engineering Supply Ltd. on June 25, 2020; Kaifeng Pingmei New Carbon Materials Technology Co., Ltd and Hafez Darya Arya Shipping Company on January 5, 2021; and Jiangyin Mascot Special Steel Co., Ltd, Iran Transfo Company, Zangan Distribution Transformer Company, Accenture Building Materials, Safiran Payam Darya Shipping Company (SAPID), Islamic Republic of Iran Shipping Lines (IRISL), and Mobarakeh Steel Company on January 15, 2021.

FOR FURTHER INFORMATION CONTACT: Office of Counterproliferation Initiatives, Bureau of International Security and Nonproliferation, Department of State, Washington, DC 20520, tel.: 202-736-7065, or CPI-Sanctions@state.gov.

SUPPLEMENTARY INFORMATION: If the Secretary determines that a person has engaged in sanctionable activity under Section 1245(a) of IFCA, the Secretary is required to impose 5 of the 12 sanctions provided for in Section 6 of the ISA.

Accordingly, the Secretary of the State, in consultation with the Secretary of the Treasury and Commerce and the United States Trade Representative, and with the Secretary of Homeland Security, the President of the Export-Import Bank of the United States, and the Chairman of the Board of Governors of the Federal Reserve System and other agencies as appropriate, has determined that:

1. Pamchel Trading Beijing CO. Ltd. has engaged in sanctionable activity pursuant to Section 1245(a)(1)(C)(II) of IFCA and should be subject to the sanctions described in ISA Sections 6(a) (3), (5), (6), (7), (8), and (9).

2. Global Industrial and Engineering Supply Ltd. has engaged in sanctionable activity pursuant to Section 1245(a)(1)(C)(II) of IFCA and should be subject to the sanctions described in ISA Sections 6(a) (3), (6), (7), (8), and (9).

3. Kaifeng Pingmei New Carbon Materials Technology Co., Ltd. and Hafez Darya Arya Shipping Company have engaged in sanctionable activity pursuant to Section 1245(a)(1)(C)(II) of IFCA and should be subject to the sanctions described in ISA Sections 6(a) (3), (6), (7), (8), and (9).

4. Majid Sajdeh is a principal executive officer or person performing similar functions and with similar authorities of Hafez Darya Arya Shipping Company for the purposes of ISA Section 6(a) (10) and (11), and should be subject to the sanctions described in ISA Sections 6(a) (3), (6), (7), (8), (9), (10), and (11).

5. Jiangyin Mascot Special Steel Co., Ltd, Iran Transfo Company, Zangan Distribution Transformer Company, Accenture Building Materials, and Safiran Payam Darya Shipping Company (SAPID) have engaged in sanctionable activity pursuant to Section 1245(a)(1)(C)(i)(II) of IFCA and should be subject to the sanctions described in ISA Sections 6(a) (3), (6), (7), (8), and (9).

6. The Islamic Republic of Iran Shipping Lines (IRISL) has engaged in sanctionable activity pursuant to Section 1245(a)(1)(C)(i)(II) of IFCA and should be subject to the sanctions described in ISA Sections 6(a) (3), (6), (7), (8), (9), and (11).

7. Mohammad Reza Modarres Khiabani is a principal executive officer, or person performing similar functions and with similar authorities, of IRISL for the purposes of ISA Section 6(a)(10) and (11), and should be subject to the sanctions described in ISA Sections 6(a) (3), (6), (7), (8), (9) and (10).

8. Mobarakeh Steel Company has engaged in sanctionable activity pursuant to Section 1245(a)(1)(C)(i)(II) of IFCA and should be subject to the sanctions described in ISA Sections 6(a) (3), (6), (7), (8), (9), and (11).

9. Hamidreza Azimian is a principal executive officer, or person performing similar functions and with similar authorities, of Mobarakeh Steel Company for the purposes of ISA Section 6(a)(10) and (11), and should be subject to the sanctions described in ISA Sections 6(a) (3), (6), (7), (8), (9), and (10).

The sanctions described above shall remain in effect until otherwise directed pursuant to the provisions of ISA, IFCA, or other applicable authority. Pursuant to the authorities delegated in the IFCA Delegation Memorandum, relevant agencies and instrumentalities of the United States Government shall take all appropriate measures within their authority to carry out the provisions of this notice. The Secretary of the Treasury is taking appropriate action to implement the sanctions for which authority has been delegated to the Secretary of the Treasury pursuant to the IFCA Delegation Memorandum and Executive Order 13846 of August 6, 2018.

Information on the designees:

Pamchel Trading Beijing Co. Ltd.

Aka: Pamchel Asia Co., Ltd

Aka: Pamchel Asia Steel Group Company Limited

Address 1: Room 328 Building 28, No. 17 Jianguomenwal Street Chaoyang District, Beijing, China

Address 2: Rm. 503, Building No. 4, Xiandaicheng District, Beijing, China

Address 3: Flat/Rm A, 9/F Silvercorp International Tower, 707-713 Nathan Road, Mongkok, Kowloon, Hong Kong

Global Industrial and Engineering Supply Ltd.

Aka: Global Industrial And Engineering Supply Limited

Aka: G.I.E.S.

Aka: GIES Group

Address 1: Unit 04, Bright Way Tower, No. 33, Mong Kok Road Kowloon, Hong Kong

Address 2: 603-3-3, Miyun Road, Nankai District, Tianjin, China

Website: giesgroup.com

Kaifeng Pingmei New Carbon Materials Technology Co., Ltd.

Aka: KFCC

Address: Biancun, East Suburbs, Shunhe District, Kaifeng Henan Province, P.R. China 475002

Hafez Darya Arya Shipping Company

Aka: Hafez-E Daryay-E Aria Shipping Lines

Aka: Hafez Darya Arya Shipping Line

Aka: Hdasco

Aka: Hdasco Shipping Company

Website: www.hdasco.com

Address: Asseman Tower, Pasdaran Street, Tehran, Iran

Address 2: No 60, Pasdaran Avenue, 7th Neyestan Street, Ehteshamiyeh Square, Tehran, Iran

Majid Sajdeh

Date of Birth: 26 January 1968

Place of Birth: Tehran, Iran

Nationality: Iran

Location: Iran

Islamic Republic of Iran Shipping Lines

Aka: IRISL

Website: www.irisl.net

Address 1: Asseman Tower, Pasdaran Street, Tehran, Iran

Address 2: P.O. Box 19395-177, Tehran, Iran

Address 3: P.O. Box 1957614114, Tehran, Iran

Address 4: No 523, Al Seman Tower Building, Tehran, Postal Code 1957617114, Iran

Mohammad Reza Modarres Khiabani

Gender: Male

Nationality: Iran

Date of Birth: July 30, 1970

Location: Iran

Jiangyin Mascot Special Steel Co., Ltd

Entity Address: No. 100 Huayuan Road, Changjing Town, Jiangyin City, Jiangsu Province, China

Iran Transfo Co.

Entity Address: 4th Km Of Zanjan-Tehran Road, Zanjan, Iran, P.O. Box 4513651118

Zangan Distribution Transformer Co.

Entity Address: 5th Km Of Zanjan-Tehran Road, Zanjan, Iran

Accenture Building Materials

Aka: Accenture Building Materials Trading LLC

Address: 106-Mohammad Noor Talib Building, Khalid Bin Al Walid Rd Bur Dubai, Dubai, U.A.E. P.O. Box No: 26685

Business License Number: 802032 (UAE)

Economic Register Number: 11114192 (UAE)

Esfahan's Mobarakeh Steel Company

Aka: Mobarakeh Steel Company

Aka: Esfahan's Mobarakeh Steel Public Joint Stock Company

Website: www.en.msc.ir

Address: P.O. Box 161-84815, Mobarakeh, Esfahan, Postal Code 11131-84881, Iran

Address 2: Mobarakeh Steel Company, Sa'adat Abad St., Azadi Sq., Esfahan, Esfahan, Iran

Hamidreza Azimian

Gender: Male

Date of Birth: 23 July 1961

Nationality: Iran

Place of Birth: Tabriz, Iran

Safiran Payam Darya Shipping Company

Aka: SAPID

Website: www.sapidshpg.com

Address: Asseman Tower, Pasdaran Street, Tehran, Iran

Zachary A. Parker,
Director, Office of Directives Management.

[FR Doc. 2021-05052 Filed 3-10-21; 8:45 am]

BILLING CODE 4710-27-P